DEPARTMENT OF COMMERCE

National Oceanic and Atmospheric Administration

50 CFR Part 679

RIN 0648-XH70

Fisheries of the Exclusive Economic Zone Off Alaska; Groundfish Fisheries in the Gulf of Alaska

AGENCY: National Marine Fisheries Service (NMFS), National Oceanic and Atmospheric Administration (NOAA), Commerce.

ACTION: Final rule; agency decision.

SUMMARY: NMFS announces the Commerce Secretary's approval of Amendment 79 to the Fishery Management Plan for Groundfish of the Gulf of Alaska (FMP). Amendment 79 amends the FMP and requires the North Pacific Fishery Management Council (Council) to recommend an aggregate overfishing level and acceptable biological catch for the “other species” category in the Gulf of Alaska as part of the annual groundfish harvest specifications process. The “other species” category in the Gulf of Alaska consists of sharks, sculpins, squid, and octopus. Amendment 79 is necessary to allow the Council and NMFS to incorporate the best and most recent scientific and socioeconomic information for the specification of the “other species” total allowable catch, acceptable biological catch, and overfishing level. This action is intended to promote the goals and objectives of the Magnuson-Stevens Fishery Conservation and Management Act, the FMP, and other applicable laws.

DATES: This agency decision is effective on August 20, 2008.

ADDRESSES: Copies of Amendment 79 and the Environmental Assessment (EA) for this action may be obtained from the NMFS Alaska Region at 709 West 9th Street, Room 420A, Juneau, AK 99802, or from the Alaska Region website at http://alaskafisheries.noaa.gov/.

FOR FURTHER INFORMATION CONTACT: Jennifer Hogan, 907-586-7228.

SUPPLEMENTARY INFORMATION: The Magnuson-Stevens Fishery Conservation and Management Act (Magnuson-Stevens Act) requires that each regional fishery management council submit any fishery management plan or fishery management plan amendment it prepares to NMFS for review and approval, disapproval, or partial approval by the Secretary of Commerce. The Magnuson-Stevens Act also requires that NMFS, upon receiving a fisheries management plan amendment, immediately publish a notice in the Federal Register announcing that the amendment is available for public review and comment.

The Council submitted Amendment 79 to NMFS on May 19, 2008. The notice of availability for Amendment 79 was published in the Federal Register on May 29, 2008 (73 FR 30875). The public comment period closed on July 28, 2008. NMFS received no comments on the proposed amendment.

In April 2008, the Council unanimously recommended Amendment 79 to the FMP. The purpose of Amendment 79 is to provide a sound biological basis for the setting of the “other species” total allowable catch (TAC) and to provide for an annual review of the stock status of the “other species” category to further reduce the risk of overfishing the species in this category. Amendment 79 authorizes the Council to recommend an aggregate overfishing level (OFL) and acceptable biological catch (ABC) for the “other species” category in the Gulf of Alaska as part of the annual groundfish harvest specifications process. The revised process allows the Council to incorporate the best and most recent scientific and socioeconomic information and public testimony in its recommendation for an annual “other species” TAC. Amendment 79 is intended to comply with the Magnuson-Stevens Act, particularly National Standard 1 and section 303(a), and other applicable laws.

An EA was prepared for Amendment 79 that describes the management background, the purpose and need for action, the management alternatives, and the environmental and socioeconomic impacts of the alternatives (see ADDRESSES). The aggregate overfishing level, acceptable biological catch, and total allowable catch for the “other species” category will be presented in the proposed 2009 and 2010 harvest specifications.

Dated: August 20, 2008.
Samuel D. Rauch III,
Deputy Assistant Administrator for Regulatory Programs, National Marine Fisheries Service.

[FR Doc. E8-19665 Filed 8-22-08; 8:45 am]

BILLING CODE 3510-22-S